DEPARTMENT OF TRANSPORTATION

Pipeline and Hazardous Materials Safety Administration

49 CFR Parts 191, 192, and 193

[Docket No. PHMSA-2024-0005]

Pipeline Safety: Meeting of the Gas Pipeline Advisory Committee

AGENCY: Pipeline and Hazardous Materials Safety Administration (PHMSA); Department of Transportation (DOT).

ACTION: Notice of advisory committee meeting.

SUMMARY: This notice announces a public meeting of the Technical Pipeline Safety Standards Committee, also known as the Gas Pipeline Advisory Committee (GPAC), to complete discussion of the notices of proposed rulemakings (NPRMs) titled “Gas Pipeline Leak Detection and Repair” and “Class Location Change Requirements.”

DATES: PHMSA will hold a public meeting from March 25, 2024, to March 29, 2024. The GPAC will meet each day from 8:30 a.m. to 5:00 p.m. ET (start and end times are subject to change) to discuss the NPRMs. However, the meeting may end early if the GPAC completes its review of the proposed rules. Members of the public who wish to attend are asked to register no later than March 18, 2024. PHMSA requests that individuals who require accommodations because of a disability notify Tewabe Asebe by email at tewabe.asebe@dot.gov at least five days prior to the meeting. Comments on the proceedings of the GPAC meeting must be submitted by April 29, 2024.

ADDRESSES: The meeting will be held in person at the Westin Crystal City, 1800 Richmond Highway, Arlington, VA 22202. However, PHMSA will provide a Microsoft Teams link on the meeting web page at https://primis.phmsa.dot.gov/meetings/MtgHome.mtg?mtg=169 for the public to listen to the meeting (please note: attendees who participate via Microsoft Teams will not have the opportunity to provide comments during the meeting). The agenda and any additional information, including information on how to participate in the meeting, will be published on the meeting web page. Presentations will be available on the meeting website and at https://www.regulations.gov/ in docket number PHMSA-2024-0005 no later than 30 days following the meeting. You may submit comments, identified by Docket No. PHMSA-2024-0005, by any of the following methods:

• Web: https://www.regulations.gov. This site allows the public to enter comments on any Federal Register notice issued by any agency. Follow the online instructions for submitting comments.

• Fax: 202-493-2251.

• Mail: Docket Management Facility, U.S. Department of Transportation, 1200 New Jersey Avenue SE, West Building: Room W12-140, Washington, DC 20590-0001.

• Hand Delivery: U.S. Department of Transportation, 1200 New Jersey Avenue SE, West Building: Room W12-140, Washington, DC 20590-0001, between 9:00 a.m. and 5:00 p.m. ET, Monday through Friday, except federal holidays.

• Instructions: Identify Docket No. PHMSA-2024-0005 at the beginning of your comments. If you submit your comments by mail, submit two copies. Internet users may submit comments at https://www.regulations.gov. If you would like confirmation that PHMSA received your comments, please include a self-addressed stamped postcard labeled “Comments on PHMSA-2024-0005.” The docket clerk will date stamp the postcard prior to returning it to you via U.S. mail.

• Note: All comments received will be posted without edits to https://www.regulations.gov, including any personal information provided. Please see the Privacy Act heading for more information. Anyone can use the site to search all comments by the name of the submitting individual or, if the comment was submitted on behalf of an association, business, labor union, etc., the name of the signing individual. Therefore, please review the complete DOT Privacy Act Statement in the Federal Register at 65 FR 19477 or the Privacy Notice at https://www.regulations.gov before submitting comments.

• Privacy Act Statement: DOT may solicit comments from the public regarding certain general notices. DOT posts these comments without edit, including any personal information the commenter provides, to www.regulations.gov, as described in the system of records notice (DOT/ALL-14 FDMS), which can be reviewed at www.dot.gov/privacy.

• Confidential Business Information: Confidential Business Information (CBI) is commercial or financial information that is both customarily and actually treated as private by its owner. Under the Freedom of Information Act (5 U.S.C. 552), CBI is exempt from public disclosure. If your comments in response to this notice contain commercial or financial information that is customarily treated as private, that you actually treat as private, and that is relevant or responsive to this notice, it is important that you clearly designate the submitted comments as CBI. Pursuant to 49 CFR 190.343, you may ask PHMSA to provide confidential treatment to information you give to the Agency by taking the following steps: (1) mark each page of the original document submission containing CBI as “Confidential;” (2) send PHMSA a copy of the original document with the CBI deleted along with the original, unaltered document; and (3) explain why the information you are submitting is CBI. Submissions containing CBI should be sent to Tewabe Asebe, U.S. Department of Transportation, 1200 New Jersey Avenue SE, Washington, DC 20590-0001. Submission containing CBI can also be emailed to Tewabe Asebe by encrypted email at tewabe.asebe@dot.gov. Any commentary PHMSA receives that is not specifically designated as CBI will be placed in the public docket.

• Docket: For access to the docket or to read background documents or comments, go to https://www.regulations.gov. Follow the online instructions for accessing the dockets. Alternatively, this information is available by visiting DOT at 1200 New Jersey Avenue SE, West Building: Room W12-140, Washington, DC 20590-0001, between 9:00 a.m. and 5:00 p.m. ET, Monday through Friday, except federal holidays.

FOR FURTHER INFORMATION CONTACT: Tewabe Asebe, Office of Pipeline Safety, by phone at 202-366-5523 or by email at tewabe.asebe@dot.gov.

SUPPLEMENTARY INFORMATION:

I. Meeting Agenda

The GPAC will meet from March 25, 2024, to March 29, 2024, to discuss “Gas Pipeline Leak Detection and Repair” NPRM that PHMSA published in the Federal Register on May 18, 2023, (88 FR 31890),¹ and if time permits the “Class Location Change Requirements” NPRM that PHMSA published in the Federal Register on October 14, 2020, (85 FR 65142). The GPAC will review the NPRMs and their associated regulatory analyses, including, but not limited to, the cost-benefit and risk assessment analyses; regulatory impact analyses; environmental assessments, and other materials pertaining to the NPRMs provided in the respective public dockets. While the meeting is scheduled for five days, the GPAC may complete its review of the proposed rules in less time. PHMSA will post additional details on the meeting website in advance of the meeting as they become available.

¹ The public docket for the Leak Detection and Repair NPRM can be found at https://regulations.gov in Docket No. PHMSA-2021-0039.

From November 27, 2023, to December 1, 2023, the GPAC met and discussed part of the Gas Pipeline Leak Detection and Repair NPRM and provided to PHMSA recommendations on a number of the proposed requirements. The transcript of the meeting is posted on the meeting website at: https://primis.phmsa.dot.gov/meetings/MtgHome.mtg?mtg=167 and at https://www.regulations.gov/. The Leak Detection and Repair NPRM proposes to make regulatory amendments that implement congressional mandates in the “Protecting Our Infrastructure of Pipelines and Enhancing Safety Act of 2020” to enhance safety and reduce methane emissions from new and existing gas transmission pipelines, distribution pipelines, regulated (Types A, B, C, and offshore) gas gathering pipelines, underground natural gas storage facilities, and liquefied natural gas facilities. Among the proposed amendments for part 192-regulated gas pipelines are strengthened leakage survey and patrolling requirements; performance standards for advanced leak detection programs; leak grading and repair criteria with mandatory repair timelines; requirements for mitigation of emissions from blowdowns; pressure relief device design, configuration, and maintenance requirements; and clarified requirements for investigating failures. Finally, this NPRM proposes to expand reporting requirements for operators of all gas pipeline facilities within DOT's jurisdiction, including underground natural gas storage facilities and liquefied natural gas facilities. PHMSA requested public comments with a submission deadline of August 16, 2023.² PHMSA received over 43,000 comments on the NPRM.

² 88 FR 42284.

In the “Class Location Change Requirements” NPRM, PHMSA proposes to revise the Federal Pipeline Safety Regulations to amend the requirements for gas transmission pipeline segments that experience a change in class location. Under the existing regulations, pipeline segments located in areas where the population density has significantly increased must perform one of the following actions: reduce the pressure of the pipeline segment; pressure test the pipeline segment to higher standards; or replace the pipeline segment. This proposed rule would add an alternative set of requirements operators could use—based on implementation of integrity management principles and pipe eligibility criteria—to manage certain pipeline segments where the class location has changed from a Class 1 location to a Class 3 location. Through required periodic assessments, repair criteria, and other additional preventive and mitigative measures, PHMSA expects this alternative approach will provide long-term safety benefits consistent with the current natural gas pipeline safety rules while also providing cost savings for pipeline operators. PHMSA requested public comments with a submission deadline of December 14, 2020.³ PHMSA received 14 comments on the NPRM.

³ 85 FR 65142

Following the GPAC meeting, PHMSA will evaluate the GPAC's recommendations and publish final rules that address the comments received and relevant information from the GPAC meeting report.

II. Background

The GPAC is a statutorily mandated advisory committee that provides the Secretary of Transportation and PHMSA with recommendations on proposed standards for the transportation of gas by pipeline. The committee was established in accordance with 49 U.S.C. 60115 and the Federal Advisory Committee Act (FACA) of 1972 (Pub. L. 92-463) to review PHMSA's regulatory initiatives and determine their technical feasibility, reasonableness, cost-effectiveness, and practicability. The committee consists of 15 members, with membership evenly divided among Federal and State governments, regulated industry, and the general public.

III. Public Participation

The meeting will be open to the public. Members of the public who wish to attend must register on the meeting website and include their names and affiliations. PHMSA will provide members of the public reasonable opportunity to make a statement during this meeting. However, commenters may be limited to 3 minutes each to accommodate the business of the committee, and trade organizations are asked to have no more than one speaker per organization. PHMSA will provide a Microsoft Teams link on the meeting web page at https://primis.phmsa.dot.gov/meetings/MtgHome.mtg?mtg=169 for the public to listen to the meeting (please note: attendees who listen to the meeting via Microsoft Teams will not have the opportunity to make a statement during the meeting). Additionally, PHMSA will record the meeting and post the recording to the public docket. PHMSA is committed to providing all participants with equal access to this meeting. Comments on the proceedings of the GPAC meeting must be submitted by April 29, 2024. If you need an accommodation due to a disability, please contact Tewabe Asebe by phone at 202-366-5523 or by email at tewabe.asebe@dot.gov.

PHMSA is not always able to publish a notice in the Federal Register quickly enough to provide timely notice regarding last-minute issues that impact a previously announced advisory committee meeting including start and end times. Therefore, individuals should check the meeting website or contact Tewabe Asebe regarding any possible changes.

Issued in Washington, DC, on February 14, 2024, under authority delegated in 49 CFR 1.97.
Alan K. Mayberry,
Associate Administrator for Pipeline Safety.

[FR Doc. 2024-03361 Filed 2-16-24; 8:45 am]

BILLING CODE 4910-60-P